NUCLEAR REGULATORY COMMISSION

Steering Committee on Multimedia Environmental Modeling

AGENCY: Nuclear Regulatory Commission.

ACTION: Notice of meeting.

SUMMARY: The annual public meeting of the Federal Interagency Steering Committee on Multimedia Environmental Modeling (ISCMEM) will convene to discuss new operational initiatives for FY 2009 among the participating agencies. The meeting is open to the public and all interested parties may attend.

DATES: September 3, 2008, from 9 a.m. to 12:30 p.m.

ADDRESSES: Nuclear Regulatory Commission, Two White Flint North Auditorium, 11545 Rockville Pike, Rockville, Maryland.

FOR FURTHER INFORMATION CONTACT: Inquiries and notice of intent to attend the meeting may be faxed or e-mailed to: Ken Rojas, ISCMEM Chair, Information Technology Center, U.S. Department of Agriculture, 2150 Centre Ave., Bldg D, Suite 200, Fort Collins, CO, 80526-8121, Tel 970-492-7326, Fax 970-492-7315, e-mail: Ken.Rojas@ftc.usda.gov.

SUPPLEMENTARY INFORMATION:

Background:

Eight Federal agencies have been cooperating under a new Memorandum of Understanding (MOU) on the research and development of multimedia environmental models for the past year. The new MOU continues a previous 5 year effort that began in 2001 and establishes a framework facilitating cooperation and coordination among the following agencies (the specific research organization within the agency is in parentheses): U.S. Army Corps of Engineers (Engineer Research and Development Center); U.S. Department of Agriculture (Natural Resources Conservation Service); U.S. Department of Energy (Office of Biological and Environmental Research); U.S. Environmental Protection Agency; U.S. Geological Survey; U.S. National Oceanographic and Atmosphere Administration; U.S. Nuclear Regulatory Commission (Office of Nuclear Regulatory Research); and U.S. Bureau of Reclamation. These agencies are cooperating and coordinating in the research and development of multimedia environmental models, software and related databases, including development, enhancements, applications and assessments of site specific, generic, and process-oriented multimedia environmental models as they pertain to human and environmental health risk assessment. Multimedia model development and simulation supports interagency interests in risk assessment, uncertainty analyses, water supply issues and contaminant transport.

Purpose of the Public Meeting: The annual public meeting provides an opportunity for the scientific community, other Federal and State agencies, and the public to be briefed on ISCMEM activities and their initiatives for the upcoming year, and to discuss technological advancements in multimedia environmental modeling.

Proposed Agenda: The ISCMEM Chair will open the meeting with a brief overview of the goals of the MOU and an update on current activities of ISCMEM. This introduction will be followed by a series of invited presentations throughout the morning focusing on topics of mutual interest to ISCMEM participants. A detailed agenda with presentation titles and speakers will be posted on the MOU public Web site: http://iscmem.sc.egov.usda.gov/.

Meeting Access: The auditorium of the U.S. Nuclear Regulatory Commission Headquarters building at 11545 Rockville Pike, Rockville, MD is across the street from the White Flint Metro stop. The most convenient transportation to the meeting venue is via Metro since there is extremely limited on-street parking. Please take Metro to the White Flint Metro stop on the Red Line. Please allow time to register with building security and to check with the entry guard station for signs for the ISCMEM public meeting room as you enter the building.

Dated at Rockville, Maryland, this 19th day of August 2008.
For the Nuclear Regulatory Commission.
William R. Ott,
Chief, Environmental Transport Branch, Division of Risk Analysis, Office of Nuclear Regulatory Research.

[FR Doc. E8-19614 Filed 8-22-08; 8:45 am]

BILLING CODE 7590-01-P